DEPARTMENT OF COMMERCE

[I.D. 101901A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northwest Region Gear Identification Requirements.

Form Number(s): None.

OMB Approval Number: 0648-0352.

Type of Request: Regular submission.

Burden Hours: 3,079.

Number of Respondents: 1,046.

Average Hours Per Response: 15 minutes per marking.

Needs and Uses: Regulations implementing the Pacific Coast Groundfish Fisheries Management Plan at 50 CFR 660.322 (c)(3) specify that federally-permitted vessels are required to mark their fixed-gear with an identifying number. This number is used by NOAA, the U.S. Coast Guard, and other agencies for fishery enforcement activities.

Affected Public: Business or other for-profit organizations.

Frequency: Third party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 17, 2001.
Gwellnar Banks,
Management Analyst, Office of the Chief Information Officer.

[FR Doc. 01-26795 Filed 10-23-01; 8:45 am]

BILLING CODE 3510-22-S